DEPARTMENT OF ENERGY

Federal Energy Regulatory Commission

Combined Notice of Filings #1

Take notice that the Commission received the following exempt wholesale generator filings:

Docket Numbers: EG12-16-000.

Applicants: Rocky Ridge Wind Project, LLC.

Description: Self-Certification of EG of Rocky Ridge Wind Project, LLC.

Filed Date: 12/2/11.

Accession Number: 20111202-5026.

Comments Due: 5 p.m. ET 12/23/11.

Take notice that the Commission received the following electric rate filings:

Docket Numbers: ER07-521-011.

Applicants: New York Independent System Operator, Inc.

Description: Revised Compliance Implementation Plan and Status Report of the New York Independent System Operator, Inc..

Filed Date: 12/1/11.

Accession Number: 20111201-5192.

Comments Due: 5 p.m. ET 12/22/11.

Docket Numbers: ER10-2774-002.

Applicants: Arizona Solar One LLC.

Description: Arizona Solar One LLC submits a notification of change in status.

Filed Date: 11/9/11.

Accession Number: 20111201-0204.

Comments Due: 5 p.m. ET 12/23/11.

Docket Numbers: ER11-4256-001.

Applicants: Southern California Edison Company.

Description: Resubmit LGIA Amendment to Walnut Creek Energy Project with WCE to be effective 8/9/2011.

Filed Date: 12/2/11.

Accession Number: 20111202-5085.

Comments Due: 5 p.m. ET 12/23/11.

Docket Numbers: ER11-4375-001.

Applicants: City of Pasadena, California.

Description: City of Pasadena Offer of Settlement and Settlement Agreement to be effective 9/1/2011.

Filed Date: 12/1/11.

Accession Number: 20111201-5102.

Comments Due: 5 p.m. ET 12/22/11.

Docket Numbers: ER11-4437-001.

Applicants: Arizona Public Service Company.

Description: Compliance filing to the APS Large Generator Interconnection Procedures to be effective 11/1/2011.

Filed Date: 12/1/11.

Accession Number: 20111201-5181.

Comments Due: 5 p.m. ET 12/22/11.

Docket Numbers: ER11-4676-001.

Applicants: Puget Sound Energy, Inc.

Description: Residential Exchange Program Settlement Implementation Agreemt Schedule 620 to be effective 10/1/2011.

Filed Date: 12/1/11.

Accession Number: 20111201-5218.

Comments Due: 5 p.m. ET 12/22/11.

Docket Numbers: ER11-4733-001.

Applicants: California Independent System Operator Corporation.

Description: 2011-12-01 CAISO SCP-QF Compliance Filing to be effective 12/1/2011.

Filed Date: 12/1/11.

Accession Number: 20111201-5216.

Comments Due: 5 p.m. ET 12/22/11.

Docket Numbers: ER12-41-001.

Applicants: ITC Midwest LLC.

Description: Filing of an Amendment to be effective 12/7/2011.

Filed Date: 12/1/11.

Accession Number: 20111201-5177.

Comments Due: 5 p.m. ET 12/22/11.

Docket Numbers: ER12-508-000.

Applicants: PJM Interconnection, LLC.

Description: Original Service Agreement No. 3148; Queue No. X1-021 to be effective 11/3/2011.

Filed Date: 12/1/11.

Accession Number: 20111201-5155.

Comments Due: 5 p.m. ET 12/22/11.

Docket Numbers: ER12-509-000.

Applicants: Florida Power Corporation.

Description: Revised Rate Schedule 106 of Florida Power Corporation to be effective 12/31/2011.

Filed Date: 12/1/11.

Accession Number: 20111201-5196.

Comments Due: 5 p.m. ET 12/22/11.

Docket Numbers: ER12-510-000.

Applicants: Portland General Electric Company.

Description: Revised Volume 14 to be effective 1/1/2012.

Filed Date: 12/1/11.

Accession Number: 20111201-5199.

Comments Due: 5 p.m. ET 12/22/11.

Docket Numbers: ER12-511-000.

Applicants: Puget Sound Energy, Inc.

Description: NWPP Reserve Energy Service Volume 9 to be effective 10/1/2011.

Filed Date: 12/1/11.

Accession Number: 20111201-5211.

Comments Due: 5 p.m. ET 12/22/11.

Docket Numbers: ER12-512-000.

Applicants: NorthWestern Corporation.

Description: FERC Electric Tariff Volume No. 7, Version 2—Revised Reserve Energy Service to be effective 1/1/2012.

Filed Date: 12/1/11.

Accession Number: 20111201-5213.

Comments Due: 5 p.m. ET 12/22/11.

Docket Numbers: ER12-513-000.

Applicants: PJM Interconnection, LLC.

Description: Revisions to PJM Tariff Attachment DD re RPM Triennial Review & RPM performance to be effective 1/31/2012.

Filed Date: 12/1/11.

Accession Number: 20111201-5214.

Comments Due: 5 p.m. ET 12/22/11.

Docket Numbers: ER12-514-000.

Applicants: Sierra Pacific Power Company.

Description: Rate Schedule No. 42—Northwest Power Pool Agreement to be effective 1/1/2012.

Filed Date: 12/1/11.

Accession Number: 20111201-5215.

Comments Due: 5 p.m. ET 12/22/11.

Docket Numbers: ER12-515-000.

Applicants: Sperian Energy Corp.

Description: Market Base Rate Tariff Filing to be effective 12/1/2011.

Filed Date: 12/2/11.

Accession Number: 20111202-5001.

Comments Due: 5 p.m. ET 12/23/11.

Docket Numbers: ER12-515-001.

Applicants: Sperian Energy Corp.

Description: Compliance Filing to MBR Tariff to be effective 12/1/2011.

Filed Date: 12/2/11.

Accession Number: 20111202-5006.

Comments Due: 5 p.m. ET 12/23/11.

Docket Numbers: ER12-515-002.

Applicants: Sperian Energy Corp.

Description: Compliance MBR Tariff Filing to be effective 12/1/2011.

Filed Date: 12/2/11.

Accession Number: 20111202-5007.

Comments Due: 5 p.m. ET 12/23/11.

Docket Numbers: ER12-516-000.

Applicants: Deseret Generation & Transmission Co-operative, Inc.

Description: Member Rate Schedule Tariff Filing to be effective 1/1/2012.

Filed Date: 12/2/11.

Accession Number: 20111202-5002.

Comments Due: 5 p.m. ET 12/23/11.

Docket Numbers: ER12-517-000.

Applicants: Midwest Independent Transmission System Operator, Inc.

Description: 12-02-11 Schedule 37 Revisions to be effective 1/1/2012 .

Filed Date: 12/2/11.

Accession Number: 20111202-5043.

Comments Due: 5 p.m. ET 12/23/11.

Docket Numbers: ER12-518-000.

Applicants: PJM Interconnection, LLC.

Description: Original Service Agreement No. 3149; Queue No. X1-043 to be effective 11/3/2011.

Filed Date: 12/2/11.

Accession Number: 20111202-5047.

Comments Due: 5 p.m. ET 12/23/11

Docket Numbers: ER12-519-000.

Applicants: PJM Interconnection, LLC.

Description: Original Service Agreement No. 3147; Queue No. W4-103 to be effective 11/3/2011.

Filed Date: 12/2/11.

Accession Number: 20111202-5049.

Comments Due: 5 p.m. ET 12/23/11.

Docket Numbers: ER12-520-000.

Applicants: PJM Interconnection, LLC.

Description: First Revised Service Agreement No. 2925; Queue No. W3-130 to be effective 11/2/2011.

Filed Date: 12/2/11.

Accession Number: 20111202-5055.

Comments Due: 5 p.m. ET 12/23/11.

Docket Numbers: ER12-521-000.

Applicants: PJM Interconnection, LLC.

Description: Second Revised Service Agreement No. 2789; Queue No. W3-129 to be effective 11/2/2011.

Filed Date: 12/2/11.

Accession Number: 20111202-5056.

Comments Due: 5 p.m. ET 12/23/11.

Docket Numbers: ER12-522-000.

Applicants: PacifiCorp.

Description: Ridgeline Meadow Creek E&P Agreement to be effective 2/1/2012.

Filed Date: 12/2/11.

Accession Number: 20111202-5087.

Comments Due: 5 p.m. ET 12/23/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2011.
Nathaniel J. Davis, Sr.,
Deputy Secretary.

[FR Doc. 2011-31792 Filed 12-9-11; 8:45 am]

BILLING CODE 6717-01-P